DEPARTMENT OF HEALTH AND HUMAN SERVICES

National Institutes of Health

Government-Owned Inventions; Availability for Licensing

AGENCY: National Institutes of Health, HHS.

ACTION: Notice.

SUMMARY: Availability for licensing U.S. Government owned intellectual property for commercial development.

FOR FURTHER INFORMATION CONTACT: Licensing information and copies of the patent applications listed below may be obtained by emailing the indicated licensing contact at the National Heart, Lung, and Blood, Office of Technology Transfer and Development Office of Technology Transfer, 31 Center Drive Room 4A29, MSC2479, Bethesda, MD 20892-2479; telephone: 301-402-5579. A signed Confidential Disclosure Agreement may be required to receive copies of the patent applications.

SUPPLEMENTARY INFORMATION: The inventions listed below are owned by an agency of the U.S. Government and are available for licensing in the U.S. in accordance with 35 U.S.C. 209 and 37 CFR part 404 to achieve expeditious commercialization of results of federally-funded research and development. Foreign patent applications are filed on selected inventions to extend market coverage for companies and may also be available for licensing. Technology description follows.

Hybrid Computed Tomography Scanning System

Description of Technology: The invention relates to a combination hybrid computed tomography (CT) system that is particularly suited for elucidating stages in pulmonary diseases, notably cystic fibrosis and lung cancer. Improved visualization of lung parenchyma and the margins of lung cysts and lung nodules (non-invasive “virtual biopsy”) may provide sufficient detail to distinguish the types of cystic lesions and lung nodules such that the typical lung tissue pathologic biopsy would not be needed to make a diagnosis. The system includes placing one or more x-ray detector panels near the patient's body initially outside the view of a CT scanner and then moved into place for a secondary scan. An initial low dose scan, CT scan or X-ray, can be performed and if a high-resolution CT scan is then necessary a flat panel detector is positioned near the area of interest. It is preferable that the flat panel detector be transparent to high-energy x-ray photons. The plurality of acquired images are then reconstructed into a low and high-resolution image.

Potential Commercial Applications:

• Non-invasive lung biopsies

Development Stage:

• Early stage, no prototype.

Inventors: Han Wen (NHLBI)

Intellectual Property: HHS Reference No. E-175-2017/0-US-01

• U.S. Provisional Patent Application 62/546,639 filed August 17, 2017.

Licensing Contact: Michael Shmilovich, Esq, CLP; 301-435-5019; shmilovm@nih.gov.

Collaborative Research Opportunity: The National Heart, Lung, and Blood Institute seeks statements of capability or interest from parties interested in collaborative research to further develop and evaluate, please contact Cecilia Pazman, Ph.D., Technology Development Specialist, Office of Technology Transfer, National Heart, Lung, and Blood Institute, Phone: (301) 594-4273; pazmance@nhlbi.nih.gov.

Dated: August 21, 2017.
Michael Shmilovich,
Senior Licensing and Patenting Manager, National Heart, Lung, and Blood Institute, Office of Technology Transfer and Development.

[FR Doc. 2017-18670 Filed 9-1-17; 8:45 am]

BILLING CODE 4140-01-P